DEPARTMENT OF HOMELAND SECURITY

Coast Guard

DEPARTMENT OF TRANSPORTATION

Maritime Administration

[USCG-2004-16860]

Gulf Landing, LLC Deepwater Port License Application

AGENCY: Coast Guard, DHS, and Maritime Administration, DOT.

ACTION: Notice of public hearing; request for comments.

SUMMARY: The U.S. Coast Guard (USCG) and the U.S. Maritime Administration (MARAD) will hold a public hearing to receive information relevant to the issuance or denial of the requisite federal license for the proposed Gulf Landing, LLC (Gulf Landing) Deepwater Port project. The proposed Gulf Landing Deepwater Port would be located in West Cameron Lease Block Number 213, approximately 38 miles south of Cameron, Louisiana. We encourage interested individuals and organizations to attend the public hearing and submit comments. We also seek comments from anyone unable to attend the public hearing. In conjunction with the public hearing, the USCG and MARAD will also hold an informational open house regarding the proposed Gulf Landing Deepwater Port project.

DATES: The public hearing will be held on Thursday, November 18, 2004, from 5 to 7 p.m., in New Orleans, Louisiana. The informational open house will be held on Thursday, November 18, 2004, from 3 to 4:30 p.m., at the same location in New Orleans, Louisiana. The public hearing will continue beyond 7 p.m. if necessary to ensure all individuals present at that time who wish to comment have an opportunity to do so.

Comments intended for inclusion in the public docket [USCG-2004-16860] must reach the Docket Management Facility on or before January 3, 2005.

ADDRESSES: The public hearing and informational open house will be held at the following location: Hyatt Regency New Orleans Hotel, Poydras at Loyola Avenue, New Orleans, Louisiana 70113, telephone 504-561-1234.

You may submit comments identified by Coast Guard docket number USCG-2004-16860 to the Docket Management Facility at the U.S. Department of Transportation. To avoid duplication, please use only one of the following methods:

(1) Web Site: http://dms.dot.gov.

(2) Mail: Docket Management Facility, U.S. Department of Transportation, 400 Seventh Street, SW., Washington, DC 20590-0001.

(3) Fax: 202-493-2251.

(4) Delivery: Room PL-401 on the Plaza level of the Nassif Building, 400 Seventh Street, SW., Washington, DC, between 9 a.m. and 5 p.m., Monday through Friday, except Federal holidays. The telephone number is 202-366-9329.

(5) Federal eRulemaking Portal: http://www.regulations.gov.

FOR FURTHER INFORMATION CONTACT: For further information concerning this notice, the Gulf Landing Deepwater Port license application, or the public hearing or informational open house, contact LCDR Derek Dostie, U.S. Coast Guard at (202) 267-0662 or ddostie@comdt.uscg.mil. If you have questions on viewing or submitting material to the docket, call Andrea M. Jenkins, Program Manager, Docket Operations, telephone 202-366-0271.

SUPPLEMENTARY INFORMATION:

Public Participation and Request for Comments

Whether or not you attend the public hearing or informational open house, we encourage you to submit written comments and related materials. All comments received will be posted, without change, to http://dms.dot.gov and will include any personal information you have provided. We have an agreement with the Department of Transportation (DOT) to use the Docket Management Facility. Please see DOT's “Privacy Act” paragraph below.

Submitting comments: If you submit a comment, please include your name and address, identify the docket number [USCG-2004-16860], indicate your specific concern, and give the reason for each comment. You may submit your comments and material by electronic means, mail, fax, or delivery to the Docket Management Facility at the address under ADDRESSES; but please submit your comments and material by only one means. If you submit them by mail or delivery, submit them in an unbound format, no larger than 8½ by 11 inches, suitable for copying and electronic filing. If you submit them by mail and would like to know that they reached the Facility, please enclose a stamped, self-addressed postcard or envelope. We will consider all comments and material received during the comment period.

Viewing comments and documents: To view comments, as well as documents mentioned in this preamble as being available in the docket, go to http://dms.dot.gov at any time and conduct a simple search using the docket number USCG-2004-16860. You may also visit the Docket Management Facility in room PL-401 on the Plaza level of the Nassif Building, 400 Seventh Street, SW., Washington, DC, between 9 a.m. and 5 p.m., Monday through Friday, except Federal holidays.

Privacy Act: Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://dms.dot.gov.

Public Hearing/Informational Open House

The Coast Guard and the Maritime Administration will hold a public hearing on Thursday, November 18, 2004 from 5 to 7 p.m., at the Hyatt Regency New Orleans Hotel, Poydras at Loyola Avenue, New Orleans, Louisiana 70113, telephone 504-561-1234. The informational open house will be held on Thursday, November 18, 2004 from 3 p.m. to 4:30 p.m., at the same location in New Orleans, Louisiana. We invite the public and representatives of interested agencies to attend and provide comments on the proposed license application. If you plan to attend the public hearing or informational open house and need special assistance, such as sign language interpretation or other reasonable accommodations, contact the U.S. Coast Guard as indicated in FOR FURTHER INFORMATION CONTACT. We ask that you make such requests at least three (3) business days before the scheduled meeting. Include a contact person's name and telephone number, your specific need, and (for persons with hearing impairments) a TDD number.

Proposed Deepwater Port Background Information

The application plan calls for construction of a deepwater port and associated anchorages in an area situated in the Gulf of Mexico, approximately 38 miles south of Cameron, Louisiana in West Cameron Lease Block Number 213, in water depth of approximately 55 feet, and adjacent to an existing shipping fairway servicing the Calcasieu River and area ports.

Gulf Landing's terminal would be capable of storing up to 200,000 cubic meters of LNG. On average, Gulf Landing expects the terminal would vaporize and deliver 1 billion cubic feet per day (Bcfd) of natural gas to the pipelines; with a peak daily send-out rate of 1.2 Bcfd. Gulf Landing proposes to construct, own, and operate up to 5 offshore pipelines, ranging from 16 to 36 inches in diameter that would traverse a combined 65.7 nautical miles. The pipelines would interconnect with existing natural gas pipelines located in the Gulf of Mexico. Gas would then be delivered to the onshore national pipeline grid for delivery to any consumption market east of the Rocky Mountains.

The project would consist of two concrete gravity base structures (GBSs) housing the LNG containment facilities, along with topside unloading and vaporization equipment, living quarters, and a ship berthing system.

The terminal would be able to receive LNG carriers with cargo capacities between 125,000 and 200,000 cubic meters and unload up to 135 LNG carriers per year. All marine systems, communication, navigation aids and equipment necessary to conduct safe LNG carrier operations and receiving of cargo during specified atmospheric and sea states would be provided at the port.

The regasification process would consist of lifting the LNG from storage tanks, pumping the cold liquid to pipeline pressure, subsequent vaporization of the LNG across heat exchanging equipment, and send-out through custody transfer metering to the gas pipeline network. No gas conditioning is required for the terminal since the incoming LNG would be pipeline quality.

License Application Background Information

The Gulf Landing Deepwater Port license application was submitted to the Secretary of Transportation on November 3, 2003. The license application calls for construction of the Gulf Landing Deepwater Port to be located in West Cameron Lease Block Number 213 approximately 38 miles south of Cameron, Louisiana. Additional information concerning the contents of the application can be found online at http://dms.dot.gov under docket number USCG-2004-16860, or in the notice of application published in the Federal Register at 69 FR 14 (Jan. 22, 2004), pages 3165-3167. This public hearing is being held pursuant to 33 U.S.C. 1504(g) to receive information relevant to the issuance or denial of the requisite federal license for the proposed Gulf Landing, LLC Deepwater Port project.

Procedural

The public meeting will be structured to provide interested members of the public with an opportunity to present comments regarding the license application. Speakers at the public meeting will be recognized in the following order: elected officials, public agencies, individuals or groups in the sign-up order, and anyone else who wishes to speak. Speakers may be asked to limit their oral comments to five (5) minutes in order to afford everyone an opportunity to speak. Any person who wishes may appear and speak or present evidence at this public hearing. Persons planning to speak at the hearing should contact the U.S. Coast Guard as indicated in FOR FURTHER INFORMATION CONTACT, any time prior to the hearing. Written statements and exhibits may be submitted in place of or in addition to oral statements and will be made a part of the hearing record. Written statements and exhibits may be delivered before or during the hearing, or they may be submitted for up to 45 days following the date of the hearing to the Docket Management Facility listed under ADDRESSES.

Dated: October 29, 2004.
Joseph J. Angelo,
Director of Standards, Marine Safety, Security, and Environmental Protection, U.S. Coast Guard.
Richard Lolich,
Acting Director, Office of Ports and Domestic Shipping, U.S. Maritime Administration.

[FR Doc. 04-24642 Filed 11-3-04; 8:45 am]

BILLING CODE 4910-15-P